COMMISSION ON CIVIL RIGHTS

Sunshine Act Notice

AGENCY: United States Commission on Civil Rights.

ACTION: Notice of meeting.

Date and Time: Friday, May 15, 2009; 9:30 a.m. EDT.

Place: 624 9th St., NW., Room 540, Washington, DC 20425.

Meeting Agenda

This meeting is open to the public.

I. Approval of Agenda.

II. Approval of Minutes of April 17, 2009 Meeting.

III. Announcements.

IV. Staff Director's Report.

• Deputy Staff Director Position

V. Program Planning.

• Update on Status of 2009 Statutory Report

• Update on Briefing Report Backlog

• Approval of Briefing Report on Covert Wiretapping in the War on Terror

VI. Management & Operations.

• Motion Regarding Evaluation of Staff Director Performance (Melendez)

• Motion Regarding Staff Director's Provision of Quarterly Financial Reports to Commission (Melendez)

• Motion Regarding Commission Preparation of a Public Service Announcement (Melendez)

• Motion Regarding Review and Standardization of Agency Regulations, Administrative Instructions and Other Practices (Melendez)

VII. State Advisory Committee Issues.

• Connecticut SAC

VIII. Adjourn.

Contact Person for Further Information: Lenore Ostrowsky, Acting Chief, Public Affairs Unit (202) 376-8582. TDD: (202) 376-8116.

Persons with a disability requiring special services, such as an interpreter for the hearing impaired, should contact Pamela Dunston at least seven days prior to the meeting at 202-376-8105. TDD: (202) 376-8116.

Dated: May 5, 2009.
David P. Blackwood,
General Counsel.

[FR Doc. E9-10819 Filed 5-5-09; 4:15 pm]

BILLING CODE 6335-01-P